SECURITIES AND EXCHANGE COMMISSION

Issuer Delisting; Notice of Application of GE Global Insurance Holding Corporation to Withdraw Its 7% Notes (due 2026) From Listing and Registration on the New York Stock Exchange, Inc. File No. 1-14178

March 19, 2004.

GE Global Insurance Holding Corporation, a Delaware corporation (“Issuer”), has filed an application with the Securities and Exchange Commission (“Commission”), pursuant to section 12(d) of the Securities Exchange Act of 1934 (“Act”) ¹ and Rule 12d2-2(d) thereunder,² to withdraw its 7% Notes (due 2026) (“Security”), from listing and registration on the New York Stock Exchange, Inc. (“NYSE” or “Exchange”).

¹ 15 U.S.C. 78l(d).

² 17 CFR 240.12d2-2(d).

The Issuer stated in its application that it has met the requirements of the NYSE rules governing an issuer's voluntary withdrawal of a security from listing and registration.

The Board of Directors (“Board”) of the Issuer approved a resolution on March 10, 2004 to withdraw the Issuer's Security from listing on the NYSE. The Board stated that following reasons factored into its decision to withdraw the Issuer's Security from the Exchange: (i) The limited number of holders of the Security (as of March 2, 2004, there were approximately 88 beneficial holders of the Security); (ii) the Issuer's Security trades infrequently on the NYSE and based on information provided in pricing history reports, there has been minimal trading of the Security during the three-month period prior to the date of this application; (iii) the Issuer believes that delisting the Security should not have a material impact on the holders of the Security; and (iv) the Issuer is not obligated under the indenture under which the Security was issued or any other documents to maintain a listing of the Security on the NYSE or any other exchange.

The Issuer's application relates solely to the Security's withdrawal from listing on the NYSE and from registration under section 12(b) of the Act ³ and shall not affect its obligation to be registered under section 12(g) of the Act.⁴

³ 15 U.S.C. 78l(b).

⁴ 15 U.S.C. 78l(g).

Any interested person may, on or before April 12, 2004, submit by letter to the Secretary of the Securities and Exchange Commission, 450 Fifth Street, NW., Washington, DC 20549-0609, facts bearing upon whether the application has been made in accordance with the rules of the NYSE and what terms, if any, should be imposed by the Commission for the protection of investors. All comment letters should refer to File No. 1-14178. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 04-6659 Filed 3-24-04; 8:45 am]

BILLING CODE 8010-01-P